SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Fax: 202-395-6974.

(SSA) Social Security Administration, DCFAM, Attn: Reports Clearance Officer, 1333 Annex Building, 6401 Security Blvd., Baltimore, MD 21235; Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Employee Verification Service (EVS)—0960-0669

Background

Under Internal Revenue Service regulations, employers are required to provide wage and tax data to SSA using form W-2, Wage and Tax Statement or its electronic equivalent. As part of this process, the employer must furnish the employee's name and Social Security Number (SSN). This information must match SSA's records in order for the employee's wage and tax data to be properly posted to the Earnings Record. Information that is incorrectly provided to the Agency must be corrected by the employer using an amended reporting form, which is a labor-intensive and time-consuming process for both SSA and the employer. Therefore, to help ensure that employers provide accurate name and SSN information on their wage reports, SSA is offering the EVS service whereby employers can verify, via magnetic tape, cartridge, diskette, paper, and telephone, if the reported name and SSN of their employee matches SSA's records.

EVS Collection

SSA will use the information collected through the EVS to verify that the employee name and SSN information, provided by employers, matches SSA records. SSA will respond to the employer informing them only of matches and mismatches of submitted information. Respondents are employers who provide wage and tax data to SSA who elect to use EVS to verify their employees' names and SSNs.

Type of Request: Extension of an OMB-Approved Information Collection.

Number of Respondents: 50,000.

Frequency of Response: 12.

Average Burden Per Response: 10 minutes.

Estimated Annual Burden: 100,000 hours.

2. Partnership Questionnaire—20 CFR 404.1080-.1082—0960-0025

Form SSA-7104 is used to establish several aspects of eligibility for Social Security benefits, including the accuracy of reported partnership earnings, the veracity of a retirement, and lag earnings where they are needed for insured status. The respondents are applicants for Social Security Old Age, Survivors, and Disability Insurance Benefits.

Type of Request: Extension of an OMB-approved information collection.

Number of Respondents: 12,350.

Frequency of Response: 1.

Average Burden Per Response: 30 minutes.

Estimated Annual Burden: 6,175 hours.

3. Letter to Employer Requesting Information About Wages Earned by a Beneficiary—20 CFR 404.703 and 404.801—0960-0034

Form SSA-L725 is used by SSA to establish the exact wages earned by a Social Security beneficiary in situations where SSA has incomplete or questionable wage data. In turn, this information is used to determine if the beneficiary's current SSA payments are accurate. The respondents are employers of wage earners whose earnings records are incomplete or have been questioned.

Type of Request: Extension of an OMB-approved information collection.

Number of Respondents: 150,000.

Frequency of Response: 1.

Average Burden Per Response: 40 minutes.

Estimated Annual Burden: 100,000 hours.

II. The information collections listed below have been submitted to OMB for clearance. Your comments on the information collections would be most useful if received by OMB and SSA within 30 days from the date of this publication. You can obtain a copy of the OMB clearance package by calling the SSA Reports Clearance Officer at 410-965-0454, or by writing to the address listed above.

1. Application To Collect a Fee for Payee Services—0960-NEW

Information requested on form SSA-445 will be provided by the fee for payee services applicant. SSA will be the only user of this information. By using form SSA-445, SSA will be able to determine whether the applicant meets the requirements to become a fee for service organizational payee, and if the applicant has provided all the information and documentation required. Based on the information provided on form SSA-445, SSA will issue a determination authorizing or denying permission to collect fees for payee services.

Type of Request: New information collection.

Number of Respondents: 100.

Frequency of Response: 1.

Average Burden Per Response: 3 minutes.

Estimated Annual Burden: 5 hours.

2. Annual Registration Statement Identifying Separated Participants With Deferred Benefits, Schedule SSA—0960-0606

Schedule SSA is a form filed annually as part of a series of pension plan documents required by section 6057 of the IRS Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans or their service providers employed to prepare the schedule SSA on behalf of the pension benefit plan. Below are the estimates of the cost and hour burdens for completing and filing schedule SSA(s). We have used an average to estimate the hour burden. However, the burden may be greater or smaller depending on whether the respondent is a large or small pension benefit plan and how many schedule SSA's are filed in a given year.

Type of Request: Extension of an OMB-approved information collection.

Number of Respondents: 88,000.

Frequency of Response: 1.

Average Burden Per Response: 2.5 hours.

Estimated Annual Burden: 220,000 hours.

Estimated Annual Cost Burden for all Respondents: $12,194,400.

3. Protection and Advocacy for Beneficiaries of Social Security (PABSS)—0960-NEW

Background

In August of 2004, SSA announced its intention to award grants to establish community-based protection and advocacy projects in every State and U.S. Territory, as authorized under section 1150 of the Social Security Act. Potential awardees were protection and advocacy organizations established under Title I of the Developmental Disabilities Assistance and Bill of Rights Act which submitted a timely application conforming to the requirements in the notice. The projects funded under this grant are part of SSA's strategy to increase the number of beneficiaries who return to work and achieve self-sufficiency as the result of receiving advocacy or other services. The overall goal of the program is to provide information and advice about obtaining vocational rehabilitation and employment services and to provide advocacy or other services that a beneficiary with a disability may need to secure, maintain, or regain gainful employment.

Collection Activities

The PABSS project collects identifying information from the project sites and benefits specialists. In addition, data are collected from the beneficiaries on background, employment, training, benefits, and work incentives. SSA uses the information to manage the program, with particular emphasis on contract administration, budgeting, and training.

SSA also uses the information to evaluate the efficacy of the program and to ensure that those dollars appropriated for PABSS services are being spent on SSA beneficiaries. The project data will be valuable to SSA in its analysis of and future planning for the Social Security Disability Insurance and Supplemental Security Income programs.

Type of Request: New information collection.

Title of collection | Number of annual responses | Frequency of response | Average burden per response (min.) | Estimated annual burden hours
Site | 57 | 5 | 1.8 | 8.6
Specialist | 225 | 5 | 1.8 | 33.8
Beneficiary | 60,000 | 1 | 5.3 | 5,300
Total Estimated Annual Burden |  |  |  | 5,342

4. SSI Monthly Wage Reporting Phase 2 Pilot—20 CFR 416.701-732-0960-NEW

Supplemental Security Income (SSI) recipients are required to report changes in their income, resources and living arrangements that may affect eligibility or payment amount. Currently, SSI recipients report changes on Form SSA-8150, Reporting Events—SSI, or to an SSA teleservice representative through SSA's toll-free telephone number, or they visit their local Social Security office.

The SSI wage reporting program area has the highest error rate largely due to non-reporting, which accounts for approximately $500 million in overpayments each year. Consequently SSA is evaluating methods for increasing reporting. SSA will conduct a pilot to test an additional method for individuals to report wages for the SSI program. We are testing to determine if, given an easily accessible automated format, individuals will increase compliance with reporting responsibilities. Increased timely reporting could result in a decrease in improper payments. SSA will also be testing the use of knowledge-based authentication to determine if this is an effective method of accessing SSA's system.

During the pilot, participants who need to report a change in earned income will call an SSA toll-free telephone number to report the change. The participants will access SSA's system using knowledge-based authentication (providing name, SSN and date of birth). Participants will either speak their report (voice recognition technology) or key in the information using the telephone key pad. SSA will issue receipts to disabled recipients who report wages using this method. Respondents to this collection are SSI recipients, deemors and representative payees of recipients who agree to participate in the pilot.

Type of Request: New information collection.

Number of Respondents: 600.

Frequency of Response: 6.

Average Burden Per Response: 5 minutes.

Estimated Annual Burden: 300 hours.

Dated: October 26, 2005.
Elizabeth A. Davidson,
Reports Clearance Officer, Social Security Administration.

[FR Doc. 05-21820 Filed 11-1-05; 8:45 am]

BILLING CODE 4191-02-P